DEPARTMENT OF HEALTH AND HUMAN SERVICES

National Institutes of Health

Clinical Center; Amended Notice of Meeting

Notice is hereby given of a change in the meeting of the Board of Governors of the Warren Grant Magnuson Clinical Center, November 21, 2003, 9 a.m. to November 21, 2003, 12 p.m., which was published in the Federal Register on October 20, 2003, FR 68, 202-59946.

The meeting is being changed from open to partially closed. The meeting will be closed from 10:45 to 11:30 in accordance with the provisions set forth in section 522b(c)(6), Title 5 U.S.C., as amended for discussion of personal qualifications and performance, the disclosure of which would constitute a clearly unwarranted invasion of person privacy.

Dated: November 13, 2003.
LaVerne Y. Stringfield,
Director, Office of Federal Advisory Committee Policy.

[FR Doc. 03-28977 Filed 11-19-03; 8:45 am]

BILLING CODE 4140-01-M